Title 3—

The President

Presidential Determination No. 2007-6 of December 6, 2006

Presidential Determination on Waiver of Conditions on Obligations and Expenditure of Funds for Planning, Design, and Construction of a Chemical Weapons Destruction Facility in Russia for Calendar Year 2007

Memorandum for the Secretary of State

Consistent with the authority vested in me by section 1303 of the National Defense Authorization Act for Fiscal Year 2005 (Public Law 108-375) (the “Act”), I hereby certify that waiving the conditions described in section 1305 of the National Defense Authorization Act for Fiscal Year 2000 (Public Law 106-65), as amended, is important to the national security interests of the United States, and include herein, for submission to the Congress, the statement, justification, and plan described in section 1303 of the Act. This waiver shall apply for calendar year 2007.

You are authorized and directed to transmit this certification, including the statement, justification, and plan, to the Congress and to arrange for the publication of this certification in the Federal Register.

THE WHITE HOUSE,

Washington, December 6, 2006.

[FR Doc. 06-9913

Filed 12-26-06; 8:45 am]

Billing code 4710-10-P